DEPARTMENT OF AGRICULTURE

Animal and Plant Health Inspection Service

[Docket No. APHIS-2014-0053]

Notice of Request for Extension of Approval of an Information Collection; Pork and Poultry Products From Mexico Transiting the United States

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for pork and poultry products from Mexico transiting the United States.

DATES: We will consider all comments that we receive on or before September 8, 2014.

ADDRESSES: You may submit comments by either of the following methods:

• Federal eRulemaking Portal: Go to http://www.regulations.gov/#!docketDetail;D=APHIS-2014-0053.

• Postal Mail/Commercial Delivery: Send your comment to Docket No. APHIS-2014-0053, Regulatory Analysis and Development, PPD, APHIS, Station 3A-03.8, 4700 River Road Unit 118, Riverdale, MD 20737-1238.

Supporting documents and any comments we receive on this docket may be viewed at http://www.regulations.gov/#!docketDetail;D=APHIS-2014-0053 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on pork and poultry products from Mexico transiting the United States, contact Dr. Lynette Williams, Senior Staff Veterinarian, National Import Export Services, VS, APHIS, 4700 River Road Unit 40, Riverdale, MD 20737; (301) 851-3300. For copies of more detailed information on the information collection, contact Mrs. Celeste Sickles, APHIS' Information Collection Coordinator, at (301) 851-2908.

SUPPLEMENTARY INFORMATION:

Title: Pork and Poultry Products From Mexico Transiting the United States.

OMB Control Number: 0579-0145.

Type of Request: Extension of approval of an information collection.

Abstract: Under the Animal Health Protection Act (7 U.S.C. 8301 et seq.), the Animal and Plant Health Inspection Service (APHIS) of the U.S. Department of Agriculture (USDA) is authorized, among other things, to prohibit or restrict the importation and interstate movement of animals, animal products, and other articles to prevent the introduction into and dissemination within the United States of animal diseases and pests. To fulfill this mission, APHIS regulates the importation of animals and animal products into the United States. The regulations are contained in title 9, chapter 1, subchapter D, parts 91 through 99, of the Code of Federal Regulations (CFR).

The regulations in 9 CFR 94.15 allow pork and pork products and poultry carcasses, parts, and products (except eggs and egg products) that are not eligible for entry into the United States to transit the United States from specified States in Mexico, via land border ports, for export to another country.

The regulations set out conditions for the transit movements that protect against the introduction of classical swine fever or Newcastle disease into the United States. These conditions involve the use of information collection activities, including the completion of a USDA, APHIS, Veterinary Services Application for Permit to Import or Transport Controlled Material or Organisms or Vectors (Veterinary Services Form 16-3), the placement of serially numbered seals on product containers, and the forwarding of a pre-arrival notification to U.S. port personnel.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.84 hours per response.

Respondents: U.S. importers of pork and poultry products from Mexico to the United States and the Federal animal health authorities in Mexico.

Estimated annual number of respondents: 34.

Estimated annual number of responses per respondent: 1.471.

Estimated annual number of responses: 50.

Estimated total annual burden on respondents: 42 hours. (Due to averaging, the total annual burden hours may not equal the product of the annual number of responses multiplied by the reporting burden per response.)

All responses to this notice will be summarized and included in the request for OMB approval. All comments will also become a matter of public record.

Done in Washington, DC, this 1st day of July 2014.
Kevin Shea,
Administrator, Animal and Plant Health Inspection Service.

[FR Doc. 2014-15863 Filed 7-7-14; 8:45 am]

BILLING CODE 3410-34-P